DEPARTMENT OF COMMERCE

International Trade Administration

[A-570-831]

Fresh Garlic from the People's Republic of China: Initiation of Antidumping Duty New Shipper Review; 2014-2015

AGENCY: Enforcement and Compliance, International Trade Administration, Department of Commerce.

SUMMARY: On May 11, 2015, the Department received a timely request for a new shipper review (NSR) from Jinxiang Huameng Imp & Exp Co. (Huameng), in accordance with section 751(a)(2)(B)(i) of the Tariff Act of 1930, as amended (the Act), and 19 CFR 351.214(c). On May 22, 2015 Department issued a letter to Huameng requesting that it correct certain deficiencies in its initial request.¹ On July 6, 2015, Huameng submitted a timely response to the Department's request.² The Department of Commerce (Department) has determined that the request for a NSR of the antidumping duty order on fresh garlic from the People's Republic of China (PRC) meets the statutory and regulatory requirements for initiation. The period of review (POR) is November 1, 2014, through April 30, 2015.

¹ See Letter from Mark Hoadley, “Opportunity to Correct Deficiencies,” dated May 22, 2015.

² See Letter from Huameng, “Deficiency Corrections for Antidumping New Shipper Review Request filed on behalf of Jinxiang Huameng Imp & Exp Co., Ltd.,”(Deficiency Corrections) dated July 6, 2015.

DATES: Effective Date: July 21, 2015.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

The Department published the antidumping duty order on fresh garlic from the PRC in the Federal Register on November 16, 1994.³ On May 11, 2015, the Department received a timely request for a NSR from Huameng. Huameng certified that it is the exporter and producer of the fresh garlic upon which the request for a NSR is based. Pursuant to section 751(a)(2)(B)(i)(I) of the Act and 19 CFR 351.214(b)(2)(i), Huameng certified that it did not export fresh garlic for sale to the United States during the period of investigation (POI).⁴ Moreover, pursuant to section 751(a)(2)(B)(i)(II) of the Act and 19 CFR 351.214(b)(2)(iii)(A), Huameng certified that, since the investigation was initiated, it never has been affiliated with any exporter or producer who exported the subject merchandise to the United States during the POI, including those not individually examined during the investigation.⁵ Further, as required by 19 CFR 351.214(b)(2)(iii)(B), it certified that its export activities are not controlled by the central government of the PRC.⁶ Huameng also certified it had no subsequent shipments of subject merchandise.⁷

³ See Antidumping Duty Order: Fresh Garlic From the People's Republic of China, 59 FR 59209 (November16, 1994).

⁴ See Huameng's request for a NSR dated May 11, 2015, at Exhibit 2.

⁵ Id.

⁶ Id.

⁷ See Deficiency Corrections at page 4.

In addition to the certifications described above, pursuant to 19 CFR 351.214(b)(2)(iv), Huameng submitted documentation establishing the following: (1) the date of its first sale to an unaffiliated customer in the United States; (2) the date on which the fresh garlic was first entered; (3) the volume of that shipment.⁸

⁸ Id. at Exhibit 1.

The Department queried the database of U.S. Customs and Border Protection (CBP) in an attempt to confirm that the shipment reported by Huameng had entered the United States for consumption and that liquidation had been properly suspended for antidumping duties. The information which the Department examined was consistent with that provided by Huameng in its request.⁹

⁹ See Memorandum to the File from Andrew Huston, “New Shipper Reviews of the Antidumping Duty Order on Fresh Garlic from the People's Republic of China: Customs Entries from November 1, 2014, to April 30, 2015,” dated July 9, 2015.

Period of Review

Pursuant to 19 CFR 351.214(c), an exporter or producer may request a NSR within one year of the date on which its subject merchandise was first entered. Moreover, 19 CFR 351.214(d)(1) states that if the request for the review is made during the six-month period ending with the end of the semiannual anniversary month, the Secretary will initiate a NSR in the calendar month immediately following the semiannual anniversary month. Further, 19 CFR 315.214(g)(1)(i)(B) states that if the NSR was initiated in the month immediately following the semiannual anniversary month, the POR will be the six-month period immediately preceding the semiannual anniversary month. Within one year of the date on which its fresh garlic was first entered, Huameng made the request for a NSR that included all documents and information required by the statute and regulations. Its request was filed in May, which is the semiannual anniversary month of the order. Therefore, the POR is November 1, 2014, through April 30, 2015.¹⁰

¹⁰ See 19 CFR 351.214(g)(1)(i)(B).

Initiation of New Shipper Review

Pursuant to section 751(a)(2)(B) of the Act and 19 CFR 351.214(b), and the information on the record, the Department finds that Huameng's request meets the threshold requirements for initiation of a NSR and, therefore, is initiating a NSR of Huameng. The Department intends to issue the preliminary results within 180 days after the date on which this review is initiated and the final results within 90 days after the date on which we issue the preliminary results.¹¹

¹¹ See section 751(a)(2)(B)(iv) of the Act.

It is the Department's usual practice in cases involving non-market economies to require that a company seeking to establish eligibility for an antidumping duty rate separate from the country-wide rate (i.e., a separate rate) provide evidence of de jure and de facto absence of government control over the company's export activities.¹² Accordingly, the Department will issue questionnaires to Huameng that include a separate rate section. The review will proceed if the responses provide sufficient indication that Huameng is not subject to either de jure or de facto government control with respect to its exports of fresh garlic.

¹² See Import Administration Policy Bulletin, Number: 05.1. (http://ia.ita.doc.gov/policy/bull05-1.pdf).

The Department will instruct CBP to allow, at the option of the importer, the posting, until the completion of the review, of a bond or security in lieu of a cash deposit for certain entries of the subject merchandise from Huameng in accordance with section 751(a)(2)(B)(iii) of the Act and 19 CFR 351.214(e). Specifically, the bonding privilege will only apply to entries of subject merchandise exported and produced by Huameng, the sales of which are the basis for this NSR request.

Interested parties requiring access to proprietary information in this proceeding should submit applications for disclosure under administrative protective order in accordance with 19 CFR 351.305 and 351.306.

This initiation and notice are in accordance with section 751(a)(2)(B) of the Act and 19 CFR 351.214 and 351.221(c)(1)(i).

Dated: July 15, 2015.
Christian Marsh,
Deputy Assistant Secretary for Antidumping and Countervailing Duty Operations.

[FR Doc. 2015-17834 Filed 7-20-15; 08:45 am]

BILLING CODE 3510-DS-P